DEPARTMENT OF TRANSPORTATION

Federal Aviation Administration

14 CFR Part 39

[Docket No. FAA-2012-1108; Directorate Identifier 2011-NM-283-AD]

RIN 2120-AA64

Airworthiness Directives; Embraer S.A. Airplanes

AGENCY: Federal Aviation Administration (FAA), DOT.

ACTION: Notice of proposed rulemaking (NPRM).

SUMMARY: We propose to adopt a new airworthiness directive (AD) for certain Embraer S.A. Model ERJ 170 and ERJ 190 airplanes. This proposed AD was prompted by reports of failures of the emergency slide on the forward passenger door, which prevented the door from opening. This proposed AD would require repetitive re-packing of certain forward door escape slides. We are proposing this AD to prevent failure of the emergency slide, preventing the forward passenger door from opening, which could result in impeded emergency evacuation and possible subsequent injury to passengers and flightcrew.

DATES: We must receive comments on this proposed AD by December 10, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For EMBRAER service information identified in this proposed AD, contact Embraer S.A., Technical Publications Section (PC 060), Av. Brigadeiro Faria Lima, 2170—Putim—12227-901 São Jose dos Campos—SP—BRASIL; telephone +55 12 3927-5852 or +55 12 3309-0732; fax +55 12 3927-7546; email distrib@embraer.com.br; Internet http://www.flyembraer.com. For Goodrich service information identified in this proposed AD, contact Goodrich Corporation, Aircraft Interior Products, ATTN: Technical Publications, 3414 South Fifth Street, Phoenix, Arizona 85040; telephone 602-243-2270; email george.yribarren@goodrich.com; Internet http://www.goodrich.com/TechPubs. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Cindy Ashforth, Aerospace Engineer, International Branch, ANM-116, Transport Airplane Directorate, FAA, 1601 Lind Avenue SW., Renton, WA 98057-3356; telephone (425) 227-2768; fax (425) 227-1149.

SUPPLEMENTARY INFORMATION:

Comments Invited

We invite you to send any written relevant data, views, or arguments about this proposed AD. Send your comments to an address listed under the ADDRESSES section. Include “Docket No. FAA-2012-1108; Directorate Identifier 2011-NM-283-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The Agência Nacional de Aviação Civil (ANAC), which is the aviation authority for Brazil, has issued Brazilian Airworthiness Directives 2011-12-01 and 2011-12-02, both effective December 27, 2011 (referred to after this as “the MCAI”), to correct an unsafe condition for the specified products. MCAI Brazilian Airworthiness Directive 2011-12-01 states:

During operational checks of escape slide P/N 4A4030-5, some operators have reported failure in the escape slide preventing the forward passenger door opening. This [Brazilian] AD is being issued to prevent failure of this system which could impede an emergency evacuation and increase the chance of injury to passengers and flight crew.

* * * * *

MCAI Brazilian Airworthiness Directive 2011-12-02 states:

During scheduled deployment tests of escape slide P/N 104003-2, some operators have reported failure in the escape slide preventing the forward passenger door opening. This [Brazilian] AD is being issued to prevent failure of this system which could impede an emergency evacuation and increase the chance of injury to passengers and flight crew.

* * * * *

The required action is repetitive re-packing of certain forward door escape slides. You may obtain further information by examining the MCAI in the AD docket.

Relevant Service Information

Goodrich has issued Alert Service Bulletins 4A4030-25A402 and 104003-25A403, both dated June 30, 2011. Embraer S.A. has issued Section 1 of EMBRAER 170 Maintenance Review Board Report, MRB-1621, Revision 7, dated November 11, 2010; and Section 1 of EMBRAER 190 Maintenance Review Board Report, MRB-1928, Revision 5, dated November 11, 2010. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Difference Between the Service Information and This Proposed AD

Where Goodrich Alert Service Bulletins 4A4030-25A402 and 104003-25A403, both dated June 30, 2011, specify that Goodrich Service Bulletin 25-394 should be accomplished as a prior or concurrent action, this proposed AD would not require that service bulletin.

Costs of Compliance

Based on the service information, we estimate that this proposed AD would affect about 253 products of U.S. registry. We also estimate that it would take about 2 work-hours per product to comply with the basic requirements of this proposed AD. The average labor rate is $85 per work-hour. Required parts would cost between $435 and $542 per product. Where the service information lists required parts costs that are covered under warranty, we have assumed that there will be no charge for these parts. As we do not control warranty coverage for affected parties, some parties may incur costs higher than estimated here. Based on these figures, we estimate the cost of the proposed AD on U.S. operators to be between $153,065 and $180,136, or $605 and $712 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Embraer S.A.: Docket No. FAA-2012-1108; Directorate Identifier 2011-NM-283-AD.

(a) Comments Due Date

We must receive comments by December 10, 2012.

(b) Affected ADs

None.

(c) Applicability

This AD applies to the airplanes identified in paragraphs (c)(1) and (c)(2) of this AD, certificated in any category.

(1) Embraer S.A. Model ERJ 170-100 LR, -100 STD, -100 SE., and -100 SU airplanes; and Model ERJ 170-200 LR, -200 SU, and -200 STD airplanes; equipped with Goodrich escape slides having part number (P/N) 4A4030-5.

(2) Embraer S.A. Model ERJ 190-100 STD, -100 LR, -100 ECJ, and -100 IGW airplanes; and Model ERJ 190-200 STD, -200 LR, and -200 IGW airplanes; equipped with Goodrich escape slides having P/N 104003-2.

(d) Subject

Air Transport Association (ATA) of America Code 25; Equipment/Furnishings.

(e) Reason

This AD was prompted by reports of failures of the emergency slide on the forward passenger door, which prevented the door from opening. We are issuing this AD to prevent failure of the emergency slide, preventing the forward passenger door from opening, which could result in impeded emergency evacuation and possible subsequent injury to passengers and flightcrew.

(f) Compliance

You are responsible for having the actions required by this AD performed within the compliance times specified, unless the actions have already been done.

(g) Repetitive Re-Packing of the Escape Slide

At the applicable compliance times identified in paragraphs (g)(1) and (g)(2) of this AD, re-pack the forward door escape slide in accordance with the Accomplishment Instructions of Goodrich Alert Service Bulletin 4A4030-25A402, dated June 30, 2011 (for Model ERJ 170 airplanes); or Goodrich Alert Service Bulletin 104003-25A403, dated June 30, 2011 (for Model ERJ 190 airplanes). Repeat the re-packing thereafter at intervals not to exceed 18 months.

(1) For escape slides that have not been repacked as of the effective date of this AD: Within 18 months after date of manufacture of the escape slide or within 6 months after the effective date of this AD, whichever occurs later.

(2) For escape slides that have been repacked as of the effective date of this AD: Within 18 months after the last re-pack of the escape slide or within 6 months after the effective date of this AD, whichever occurs later.

(h) Method of Compliance

Accomplishing an overhaul of the escape slide as specified in Task 25-65-01-001, Emergency Evacuation Slide Assembly, of Section 1 of EMBRAER 170 Maintenance Review Board Report, MRB-1621, Revision 7, dated November 11, 2010 (for Model ERJ 170 airplanes); or Section 1 of EMBRAER 190 Maintenance Review Board Report, MRB-1928, Revision 5, dated November 11, 2010 (for Model ERJ 190 airplanes); is acceptable for compliance with any re-pack required by paragraph (g) of this AD.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Cindy Ashforth, Aerospace Engineer, International Branch, ANM-116, Transport Airplane Directorate, FAA, 1601 Lind Avenue SW., Renton, WA 98057-3356; telephone (425) 227-2768; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

(1) Refer to MCAI Brazilian Airworthiness Directives 2011-12-01 and 2011-12-02, both effective December 27, 2011, and the service information identified in paragraphs (j)(1)(i) through (j)(1)(iv) of this AD, for related information.

(i) Section 1 of EMBRAER 170 Maintenance Review Board Report, MRB-1621, Revision 7, dated November 11, 2010.

(ii) Section 1 of EMBRAER 190 Maintenance Review Board Report, MRB-1928, Revision 5, dated November 11, 2010.

(iii) Goodrich Alert Service Bulletin 4A4030-25A402, dated June 30, 2011.

(iv) Goodrich Alert Service Bulletin 104003-25A403, dated June 30, 2011.

(2) For EMBRAER service information identified in this AD, contact Embraer S.A., Technical Publications Section (PC 060), Av. Brigadeiro Faria Lima, 2170—Putim—12227-901 São Jose dos Campos—SP—BRASIL; telephone +55 12 3927-5852 or +55 12 3309-0732; fax +55 12 3927-7546; email distrib@embraer.com.br; Internet http://www.flyembraer.com. For Goodrich service information identified in this AD, contact Goodrich Corporation, Aircraft Interior Products, ATTN: Technical Publications, 3414 South Fifth Street, Phoenix, Arizona 85040; telephone 602-243-2270; email george.yribarren@goodrich.com; Internet http://www.goodrich.com/TechPubs. You may review copies of the referenced service information at the FAA, Transport Airplane Directorate, 1601 Lind Avenue SW., Renton, WA. For information on the availability of this material at the FAA, call 425-227-1221.

Issued in Renton, Washington, on October 15, 2012.
John P. Piccola,
Acting Manager, Transport Airplane Directorate, Aircraft Certification Service.

[FR Doc. 2012-26263 Filed 10-24-12; 8:45 am]

BILLING CODE 4910-13-P